DEPARTMENT OF COMMERCE

National Oceanic and Atmospheric Administration

Notice of Availability of Stellwagen Bank National Marine Sanctuary Draft Management Plan and Draft Environmental Assessment

AGENCY: Office of National Marine Sanctuaries, National Ocean Service, National Oceanic and Atmospheric Administration, Department of Commerce.

ACTION: Notice of availability and public meetings for draft management plan and environmental assessment; request for comments.

SUMMARY: The National Oceanic and Atmospheric Administration (NOAA) has prepared a draft management plan as part of the Stellwagen Bank National Marine Sanctuary (SBNMS or sanctuary) management plan review pursuant to the National Marine Sanctuaries Act. The draft management plan, which would update the 2010 sanctuary management plan, addresses current and emerging threats in SBNMS and reflects changes in new science and technologies, how people use the sanctuary, and community needs. The draft management plan supports continued protection of sanctuary resources through enforcement of existing sanctuary regulations, education and outreach strategies that promote ocean stewardship, and community engagement. Consistent with the information provided in the 2020 Notice of Intent, NOAA is not proposing modifications to the sanctuary regulations at this time, but may consider regulatory changes in the future. NOAA also prepared an environmental assessment, which evaluates the environmental impacts of implementing the draft management plan and ongoing field activities. NOAA is soliciting public comments on the draft updated management plan and environmental assessment at this time.

DATES: Comments on the draft management plan and environmental assessment are due by January 21, 2022. NOAA will host virtual public meetings at the following dates and times:

• Tuesday January 11, 2022, 6 p.m. Eastern Time

• Wednesday January 12, 2022, 3 p.m. Eastern Time

ADDRESSES: You may submit comments on draft management plan and environmental assessment document by any of the following methods:

Federal eRulemaking Portal: Go to https://www.regulations.gov and enter “NOAA-NOS-2020-0003” in the Search box. Click on the “Comment” icon, complete the required fields, and enter or attach your comments.

Mail: Send any hard copy public comments by mail to: Stellwagen Bank NMS, 175 Edward Foster Road, Scituate, MA, 02066, Attn: Management Plan Revision.

Email: Send any comments by email to: sbnmsmanagementplan@noaa.gov.

Public Meetings: Provide oral comments during virtual public meetings, as described under DATES. Webinar registration details and additional information about how to participate in these public scoping meetings is available at https://stellwagen.noaa.gov/management/2020-management-plan-review/. The meeting is accessible to individuals with disabilities. If you would like to request reasonable accommodations to participate in a meeting (e.g., interpreting service, assistive listening device, or materials in an alternate format), notify the contact person listed in this notice no later than ten working days prior to each meeting.

Instructions: Comments sent by any other method, to any other address or individual, or received after the end of the comment period, may not be considered by NOAA. All comments received are a part of the public record and will generally be posted for public viewing on https://www.regulations.gov without change. All personal identifying information (for example, name, address, etc.), confidential business information, or otherwise sensitive information submitted voluntarily by the commenter will be publicly accessible. NOAA will accept anonymous comments (enter “N/A” in the required fields if you wish to remain anonymous).

FOR FURTHER INFORMATION CONTACT: Alice Stratton, (781) 545-8026, sbnmsmanagementplan@noaa.gov, 175 Edward Foster Road, Scituate, MA 02066.

SUPPLEMENTARY INFORMATION:

I. Background on Stellwagen Bank National Marine Sanctuary

SBNMS is one of the most biologically diverse and productive zones in the Gulf of Maine, and extends from Cape Ann to Cape Cod, encompassing 842 square miles and ranging in depth from 65 to 600 feet. The underwater landscape of the sanctuary is a patchwork of banks, basins, and biological features. Within these landscapes are habitats including deep-sea corals, sandy bottom, and shipwrecks. These habitats support over 575 species of invertebrates, fish, seabirds, sea turtles, and marine mammals. This diversity of habitats and marine life is important to local and regional economies as it supports a variety of commercial, recreational, scientific, and educational activities. These activities bring income, jobs, and economic output to the 14 coastal communities adjacent to the sanctuary.

II. Management Plan Review

Section 304(e), 16 U.S.C 1434(e), requires periodic review of sanctuary management plans to ensure sanctuary-specific management techniques and strategies: (1) Effectively address changing environmental conditions and threats to sanctuary resources and qualities; and (2) fulfill the purposes and policies of the NMSA. NOAA began its review of the SBNMS management plan in 2020 to examine current issues and threats to sanctuary resources and evaluate the extent to which the 2010 management plan met the sanctuary's goals and objectives. The need for revisions to the 2010 management plan is based on the several emerging threats to marine resources within SBNMS. Prior to the development of this draft management plan, NOAA completed a condition report in 2020 that assessed the condition and trends of resources and activities in SBNMS and guided the development of this draft management plan. The condition report is available at https://sanctuaries.noaa.gov/science/condition/sbnms/ and concluded that human activities and climate change are impacting habitat, living resources, and maritime heritage resources in the sanctuary in various ways.

NOAA conducted public scoping for the management plan review process from February 13, 2020 to April 10, 2020 and invited input from the public on the scope of revisions to the 2010 management plan (85 FR 8213). The scoping process yielded feedback that was largely aligned with the 2020 condition report findings. Comments focused on NOAA's need to monitor and address potential emerging issues such as climate change and changes to water quality, to continue and expand protections for sanctuary resources, and to maintain core sanctuary research. Scoping comments also called for enhanced education and outreach efforts and increased capacity to administer sanctuary programs. NOAA incorporated the issues identified during the public scoping process into this draft management plan.

III. Action Plans

This draft management plan contains 15 action plans which address priority issues for SBNMS. These action plans fall under four primary goals: ensure a thriving sanctuary, increase support for SBNMS, deepen our understanding of sanctuary resources, and ensure coordinated support for sanctuary infrastructure, staff, and field operations. Each action plan is summarized below (refer to the draft for complete text).

• Marine Mammal Protection: The sanctuary serves as the primary habitat for 22 species of marine mammals. The goal of this plan is to expand our understanding of the vulnerability of marine mammals to anthropogenic activity and develop and implement mitigation activities.

• Seabird Research: Coastal development, predation by humans and other animals, removal of prey through fisheries activity, and marine environment pollution threaten the many seabirds in the sanctuary. The goal of this plan is to understand the abundance, distribution, habitat use, bycatch, contaminant load, and foraging ecology of seabirds, and how SBNMS relates to the wider Gulf of Maine and Atlantic ecosystems.

• Vessel Traffic: SBNMS sits at the mouth of Massachusetts Bay, which experiences commercial vessel traffic traveling to and from the growing Port of Boston. Sanctuary staff work to mitigate the impacts of the large volume of vessel traffic through technology, reporting, and warnings. The goal of this plan is to monitor vessel traffic and mitigate negative effects on sanctuary resources.

• Maritime Heritage and Cultural Landscapes: The sanctuary serves as an underwater museum to maritime history with numerous shipwrecks on the seafloor. The sanctuary's efforts in maritime cultural landscapes help us understand the relationships between the people and the sea in the past and present through research and management. The goal of this plan is to understand the broader context of past and present uses of the sanctuary while assessing and protecting maritime heritage resources in the sanctuary.

• Compatible Uses: Evolving commercial and recreational uses of the sanctuary impact key elements of the sanctuary's landscape. The goal of this plan is to enhance transparency regarding how current and emerging activities are assessed for compatibility while managing sanctuary resources.

• Climate Change: The goal of this plan is to evaluate climate change impacts on sanctuary resources and incorporate changing conditions in management decisions. Various strategies and efforts for enhanced understanding of climate impacts and synergies will inform decisions on a wide range of sanctuary management, including resource protection, education, and operations.

• Education and Outreach: A variety of education and outreach programs, tools, and techniques are employed to bring sanctuary information and research to the widest audiences. The goal of this plan is to increase public awareness and understanding of the sanctuary and encourage responsible use and stewardship of its resources.

• Interagency/Intergovernmental Coordination: NOAA relies on partnerships with other Federal and State agencies as well as collaborations with non-profit, community, research/academic, and many others, for effective management. The goal of this plan is to promote improved management through coordinated partnering with local, State, regional, Tribal, and Federal partners.

• Sanctuary Advisory Council: The Sanctuary Advisory Council addresses specific management issues and public involvement by developing sound advice for the sanctuary. The goal of this plan is to facilitate an active and engaged community of Sanctuary Advisory Council members to advise the superintendent in carrying out the sanctuary's mission.

• Research and Monitoring: The sanctuary conducts a robust science program to provide vital information to support management needs. The goal of this plan is to support, promote, and coordinate scientific research, characterization, and long-term monitoring to enhance the understanding of the sanctuary environment and processes, and improve management decision-making for optimal resource management and protection.

• Soundscape: The sanctuary has an extensive acoustics research program that provides opportunities for partnership and leadership in the development of regional, national, and international policies for managing noise impacts on marine life. The goal of this plan is to maintain the role of SBNMS as a sentinel site for passive acoustic monitoring in the Gulf of Maine, and as a testbed for applying these data to both long-term monitoring of ecosystems and the design of methods to reduce impacts from human activities.

• Water Quality Monitoring: The exceptional diversity of marine life in the sanctuary depends on good water quality. This action plan addresses the need to collaborate on water quality monitoring and research in the sanctuary to determine whether it can continue to maintain healthy resources.

• Habitat: Habitat quality in the sanctuary over the last decade has shown changes from both direct interactions, like bottom-contact fishing, and indirect interactions, such as trophic and competitive shifts in population. The goal of this plan is to develop an improved understanding of the condition of major habitat types within the sanctuary to understand their productivity and biodiversity.

• Ecosystem Services: Sanctuary resources support nearby coastal communities in a variety of ways, and it is important to better understand and quantify the economic and intrinsic values of the sanctuary to natural and human systems. The goal of this plan is to explore the dynamic connections between sanctuary resources and ecosystem services to better inform management decisions.

• Administration and Infrastructure Capacity: This action plan addresses the necessary operational and administrative activities required for implementing an effective program, including staffing, infrastructure needs, and operational improvements.

IV. National Environmental Policy Act Compliance

As required under the National Environmental Policy Act (NEPA; 42 U.S.C. 4321 et seq.), NOAA has prepared an environmental assessment to evaluate the potential impacts on the human environment of implementing NOAA's proposed action. The proposed action is to update NOAA's management activities conducted within SBNMS that relate to research, monitoring, education, outreach, community engagement, and resource protection. The proposed management activities include revising the sanctuary management plan and implementing routine field activities and existing sanctuary regulations. No significant impacts to resources and the human environment are expected to result from this proposed action. Accordingly, under NEPA, an environmental assessment is the appropriate document to analyze the potential impacts of this action. Following the close of the public comment period and the satisfaction of consultation requirements under any applicable natural and cultural resource statutes, NOAA will finalize its NEPA analysis and prepare a final NEPA document and decision document.

V. Public Input Opportunity

With this notice, NOAA is seeking public comment and input from individuals, organizations, and Federal agencies, State, Tribal, and local governments on the draft management plan and environmental assessment, which is available at https://stellwagen.noaa.gov/management/2020-management-plan-review/. Printed copies may be obtained by contacting the individual listed under the heading FOR FURTHER INFORMATION CONTACT.

Authority: 16 U.S.C. 1431 et seq.; 42 U.S.C. 4321 et seq.; 40 CFR 1500-1508 (NEPA Implementing Regulations); Companion Manual for NOAA Administrative Order 216-6A.

John Armor,
Director, Office of National Marine Sanctuaries, National Ocean Service, National Oceanic and Atmospheric Administration.

[FR Doc. 2021-25819 Filed 11-29-21; 8:45 am]

BILLING CODE 3510-NK-P